DEPARTMENT OF ENERGY

Federal Energy Regulatory Commission

Combined Notice of Filings #1

Take notice that the Commission received the following electric rate filings:

Docket Numbers: ER10-3124-005; ER10-3129-005; ER10-3130-005; ER10-3132-005; ER10-3134-005; ER10-3137-005

Applicants: Noble Altona Windpark, LLC, Noble Bliss Windpark, LLC, Noble Chateaugay Windpark, LLC, Noble Clinton Windpark I, LLC, Noble Ellenburg Windpark, LLC, Noble Wethersfield Windpark, LLC.

Description: Triennial Market Power Analysis for the Northeast Region of the Noble Sellers.

Filed Date: 6/14/17.

Accession Number: 20170614-5213.

Comments Due: 5 p.m. ET 8/14/17.

Docket Numbers: ER17-1820-000.

Applicants: PJM Interconnection, L.L.C.

Description: § 205(d) Rate Filing: Original Service Agreement No. 4732, Queue Position #AC1-202 to be effective 5/16/2017.

Filed Date: 6/14/17.

Accession Number: 20170614-5186.

Comments Due: 5 p.m. ET 7/5/17.

Docket Numbers: ER17-1821-000.

Applicants: Panda Stonewall LLC.

Description: Baseline eTariff Filing: Reactive Supply and Voltage Control from Generation to be effective 6/15/2017.

Filed Date: 6/14/17.

Accession Number: 20170614-5207.

Comments Due: 5 p.m. ET 7/5/17.

Docket Numbers: ER17-1822-000.

Applicants: Pacific Gas and Electric Company.

Description: Notice of Termination of Special Facilities Service Agreement No. 36 of Pacific Gas and Electric Company.

Filed Date: 6/14/17.

Accession Number: 20170614-5216.

Comments Due: 5 p.m. ET 7/5/17.

Docket Numbers: ER17-1823-000.

Applicants: Southwest Power Pool, Inc.

Description: § 205(d) Rate Filing: 1895R6 Westar Energy, Inc. NITSA and NOA to be effective 9/1/2017.

Filed Date: 6/15/17.

Accession Number: 20170615-5006.

Comments Due: 5 p.m. ET 7/6/17.

Docket Numbers: ER17-1824-000.

Applicants: Southwest Power Pool, Inc.

Description: § 205(d) Rate Filing: 1897R6 Westar Energy, Inc. NITSA and NOA to be effective 9/1/2017.

Filed Date: 6/15/17.

Accession Number: 20170615-5028.

Comments Due: 5 p.m. ET 7/6/17.

Docket Numbers: ER17-1825-000.

Applicants: Southwest Power Pool, Inc.

Description: § 205(d) Rate Filing: 2045R6 Westar Energy, Inc. NITSA and NOA to be effective 9/1/2017.

Filed Date: 6/15/17.

Accession Number: 20170615-5030.

Comments Due: 5 p.m. ET 7/6/17.

Docket Numbers: ER17-1826-000.

Applicants: Duke Energy Carolinas, LLC.

Description: § 205(d) Rate Filing: OATT Attachment C-1 and C-3 Amendment Filing to be effective 9/1/2017.

Filed Date: 6/15/17.

Accession Number: 20170615-5032.

Comments Due: 5 p.m. ET 7/6/17.

Docket Numbers: ER17-1827-000.

Applicants: Southwest Power Pool, Inc.

Description: § 205(d) Rate Filing: 2066R6 Westar Energy, Inc. NITSA and NOA to be effective 9/1/2017.

Filed Date: 6/15/17.

Accession Number: 20170615-5034.

Comments Due: 5 p.m. ET 7/6/17.

Docket Numbers: ER17-1828-000.

Applicants: Southwest Power Pool, Inc.

Description: § 205(d) Rate Filing: 2390R5 Westar Energy, Inc. NITSA and NOA to be effective 9/1/2017.

Filed Date: 6/15/17.

Accession Number: 20170615-5036.

Comments Due: 5 p.m. ET 7/6/17.

Docket Numbers: ER17-1829-000.

Applicants: Southwest Power Pool, Inc.

Description: § 205(d) Rate Filing: 2491R5 Westar Energy, Inc. NITSA and NOA to be effective 9/1/2017.

Filed Date: 6/15/17.

Accession Number: 20170615-5039.

Comments Due: 5 p.m. ET 7/6/17.

Docket Numbers: ER17-1830-000.

Applicants: CXA Sundevil Holdco, Inc.

Description: Baseline eTariff Filing: Application of Market Based Rate to be effective 7/1/2017.

Filed Date: 6/15/17.

Accession Number: 20170615-5040.

Comments Due: 5 p.m. ET 7/6/17.

Docket Numbers: ER17-1831-000.

Applicants: AEP Texas Inc.

Description: § 205(d) Rate Filing: AEP TX-Patriot Wind Farm Interconnection Agreement 3rd Amd to be effective 5/24/2017.

Filed Date: 6/15/17.

Accession Number: 20170615-5057.

Comments Due: 5 p.m. ET 7/6/17.

Docket Numbers: ER17-1832-000.

Applicants: AEP Texas Inc.

Description: § 205(d) Rate Filing: AEP TX-Bruenning's Breeze Wind Interconnection Agreement 1st Amd to be effective 5/24/2017.

Filed Date: 6/15/17.

Accession Number: 20170615-5060.

Comments Due: 5 p.m. ET 7/6/17.

Docket Numbers: ER17-1833-000.

Applicants: Midcontinent Independent System Operator, Inc.

Description: § 205(d) Rate Filing: 2017-06-15_SA 2929 Huron Wind-ITC Amended GIA (J308) to be effective 6/1/2017.

Filed Date: 6/15/17.

Accession Number: 20170615-5061.

Comments Due: 5 p.m. ET 7/6/17.

Docket Numbers: ER17-1834-000.

Applicants: PJM Interconnection, L.L.C.

Description: § 205(d) Rate Filing: Clean-up to Historical Correct OATT Sch. 12- Appdx A Dominion, ATSI, Penelec to be effective 1/1/2016.

Filed Date: 6/15/17.

Accession Number: 20170615-5064.

Comments Due: 5 p.m. ET 7/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2017.
Nathaniel J. Davis, Sr.,
Deputy Secretary.

[FR Doc. 2017-13265 Filed 6-23-17; 8:45 am]

BILLING CODE 6717-01-P